SMALL BUSINESS ADMINISTRATION

[Declaration of Disaster #3481]

State of Ohio (Amendment #2)

In accordance with a notice received from the Department of Homeland Security—Federal Emergency Management Agency, effective April 1, 2003, the above numbered declaration is hereby amended to include Gallia and Meigs Counties as disaster areas due to damages caused by a severe winter storm and record snow occurring on February 14, 2003, and continuing through March 18, 2003.

In addition, applications for economic injury loans from small businesses located in the contiguous counties of Athens in the State of Ohio; and Jackson, Mason and Wood Counties in the State of West Virginia may be filed until the specified date at the previously designated location. All other counties contiguous to the above named primary counties have been previously declared.

All other information remains the same, i.e., the deadline for filing applications for physical damage is May 13, 2003, and for economic injury the deadline is December 15, 2003.

(Catalog of Federal Domestic Assistance Program Nos. 59002 and 59008)
Dated: April 1, 2003.
Herbert L. Mitchell,
Associate Administrator for Disaster Assistance.

[FR Doc. 03-8532 Filed 4-7-03; 8:45 am]

BILLING CODE 8025-01-P